DEPARTMENT OF TRANSPORTATION

Federal Transit Administration

Announcement of Project Selections for FY 2007 Discretionary Programs

AGENCY: Federal Transit Administration, DOT.

ACTION: Notice.

SUMMARY: The U.S. Department of Transportation (DOT) Federal Transit Administration (FTA) announces the discretionary selection of projects to be funded under Fiscal Year (FY) 2007 appropriations for the Bus and Bus Facilities Program and Alternatives Analysis program, in response to Notices of Funding Availability published March 23, 2007, and additional FY 2007 New Starts allocations.

FOR FURTHER INFORMATION CONTACT: The appropriate FTA Regional Administrator for grant-specific issues; or Mary Martha Churchman or Maria Wright, Office of Program Management, 202-366-2053, for general information about the Bus and Bus Facilities Program; Steve Lewis-Workman, 202-366-1868, for general information about the Alternatives Analysis Program; or Sean Libberton, 202-366-5112, for general information about the New Starts program.

SUPPLEMENTARY INFORMATION: A total of $438 million was made available for discretionary allocation by FTA under the Bus and Bus Facilities program in FY 2007 (including $25 million in unallocated funds from FY 2006). FTA published two notices of funding availability on March 23, 2007, inviting applications for funding. One notice solicited proposals from the 36 most congested cities in the nation, to support transit projects under Urban Partnership Agreements to be negotiated by the Department of Transportation (DOT). To be selected as an Urban Partner, a city had to propose a comprehensive plan to address congestion, including four “T's”: Tolling (congestion pricing), Transit, Technology, and Telecommuting. The second notice invited proposals addressing a number of FTA priorities for the Bus and Bus Facilities program, including replacement of over-aged buses, fleet expansion to improve service, and bus related facilities. In response to the two notices, FTA received proposals totaling over $4 billion.

FTA carefully reviewed all proposals submitted, and rated them based on criteria specified in the notices of funding availability. DOT recently announced the selection of five cities as Urban Partners, and committed to providing $433 million in discretionary bus program funds to support the transit elements of those Urban Partnership Agreements, and one additional promising project proposed by another Urban Partner candidate. In addition, this announcement includes $5 million for Minneapolis to meet transit needs as provided in Public Law 110-56. See Table 1 for the allocations. FTA believes that the strategic investment of the bus resources in these projects will demonstrate the important role of transit in addressing congestion and ultimately lead to more support for transit in all areas.

FTA appreciates the time and effort our grantees spent in preparing the many thoughtful proposals we received and regrets that the funding available was not sufficient to fund any of the other meritorious projects submitted for consideration. FTA recognizes that there is an on-going need for critical investment in fleet replacement and facilities, and encourages grantees to consider use of flexible funds available for either transit or highway use, among other resources.

FTA also solicited applications for Alternatives Analysis projects in a notice published March 23, 2007, with $12 million available for discretionary allocation. FTA received 36 proposals seeking $26 million and has selected 26 projects for funding. Two of these projects are associated with Urban Partnership Agreements. See Table 2 in this notice for the allocations.

Finally, in the FY 2007 Notice of FTA FY 2007 Apportionments and Allocations and Program Information, also published March 23, 2007, FTA allocated FY 2007 discretionary New Starts funds to projects with existing Full Funding Grant Agreements and other projects included in the President's Budget Request for FY 2007. Since that time, FTA has allocated an additional $118.8 million in available FY 2007 New Starts funds to additional New Start and Small Start projects, including one project in the Public-Private Partnership Pilot Program. Funds have also been provisionally allocated to one Urban Partner. These allocations are included in this Notice for your information. See Table 3.

Tables of projects selected under all three programs follow. Grantees selected for competitive discretionary funding should work with their FTA regional office to finalize the application in FTA's electronic award and management system, TEAM, so that funds can be obligated expeditiously. Funds must be used for the purposes specified in the competitive application. No funding allocated for Urban Partnership Agreements may be drawn down by the Urban Partner except in accordance with terms and conditions set forth in a grant agreement contemplated by the “term sheet” executed by Department and the Urban Partner. A discretionary project identification number has been assigned to each project for tracking purposes. Pre-award costs may be incurred as of the date of this notice, unless otherwise restricted by the terms of an Urban Partnership Agreement.

Issued in Washington, DC, this 17th day of August 2007.
James S. Simpson,
Administrator.

BILLING CODE 4910-57-P

[FR Doc. 07-4125 Filed 8-17-07; 4:54 pm]

BILLING CODE 4910-57-C